DEPARTMENT OF AGRICULTURE

National Institute of Food and Agriculture

7 CFR Part 3434

RIN 0524-AA39

Hispanic-Serving Agricultural Colleges and Universities (HSACU) Certification Process

AGENCY: National Institute of Food and Agriculture (NIFA), Department of Agriculture (USDA).

ACTION: Final rule.

SUMMARY: This amendment to NIFA regulations updates the list of institutions that are granted Hispanic-Serving Agricultural Colleges and Universities (HSACU) certification by the Secretary and are eligible for HSACU programs for the period starting July 1, 2023, and ending July 1, 2024.

DATES: This rule is effective October 16, 2023, and applicable July 1, 2023.

FOR FURTHER INFORMATION CONTACT: Amanda Sahinovic; Financial Policy Specialist; National Institute of Food and Agriculture; U.S. Department of Agriculture; 805 Pennsylvania Ave.; Kansas City, MO 64105; Voice: 816-266-9905; Email: HSACU@usda.gov.

SUPPLEMENTARY INFORMATION:

HSACU Institutions, 2023-2024: This rule makes changes to the existing list of institutions in appendix B of 7 CFR part 3434. The list of institutions is amended to reflect the institutions that are granted HSACU certification by the Secretary and are eligible for HSACU programs for the period starting July 1, 2023, and ending July 1, 2024.

Certification Process: As stated in 7 CFR 3434.4, an institution must meet the following criteria to receive HSACU certification: (1) Be a Hispanic-Serving Institution (HSI), (2) offer agriculture-related degrees, (3) not be designated an 1862 land-grant institution, (4) not appear on the Excluded Parties List System (EPLS), (5) be accredited, and (6) award at least 15% of agriculture-related degrees to Hispanic students over the two most recent academic years.

NIFA obtained the latest report from the U.S. Department of Education's National Center for Education Statistics that lists all HSIs and the degrees conferred by these institutions (completion data) during the 2020-21 academic year. NIFA used this report to identify HSIs that conferred a degree in an instructional program that appears in appendix A of 7 CFR part 3434 and to confirm that over the 2019-2020 and 2020-21 academic years at least 15% of the degrees in agriculture-related fields were awarded to Hispanic students. NIFA further confirmed that these institutions were nationally accredited.

The updated list of HSACUs is based on (1) completions data from 2019-20 and 2020-21, and (2) enrollment data from Fall 2021. NIFA identified 223 institutions that met the eligibility criteria to receive HSACU certification for fiscal year (FY) 2023 (July 1, 2023, to July 1, 2024).

Section 7102 of the Agriculture Act of 2018 (Pub. L. 115-334) amended Section 1404(14) of the National Agricultural Research, Extension, and Teaching Policy Act of 1977 (7 U.S.C. 3103(14)) to remove the opt-in, opt-out language for Hispanic Serving Agricultural Colleges and Universities (HSACU) in order to apply for Non Land-Grant College of Agriculture (NLGCA) designation.

Appeal Process: As set forth in 7 CFR 3434.8, NIFA will permit HSIs that are not granted HSACU certification to submit an appeal within 30 days of the publication of this rule.

Classification: This rule relates to public property, loans, grants, benefits, or contracts. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Part 3434

Administrative practice and procedure, Agricultural research, education, extension, Federal assistance, Hispanic-serving institutions.

Accordingly, part 3434 of title 7 of the Code of Federal Regulations is amended as set forth below:

PART 3434—HISPANIC-SERVING AGRICULTURAL COLLEGES AND UNIVERSITIES CERTIFICATION PROCESS

1. The authority citation for part 3434 continues to read as follows:

Authority: 7 U.S.C. 3103.

2. Revise appendix B to read as follows:

Appendix B to Part 3434—List of HSACU Institutions, 2023-2024

The institutions listed in this appendix are granted HSACU certification by the Secretary and are eligible for HSACU programs for the period starting July 1, 2023, and ending July 1, 2024. Institutions are listed alphabetically under the state of the school's location, with the campus indicated where applicable.

Arizona (11)

Arizona State University Campus Immersion

Arizona Western College

Central Arizona College

Glendale Community College

Mesa Community College

Northern Arizona University

Phoenix College

Pima Community College

Rio Salado College

Scottsdale Community College

South Mountain Community College

California (95)

American River College

Antelope Valley Community College District

Bakersfield College

Butte College

Cabrillo College

California Baptist University

California State Polytechnic University—Humboldt

California State Polytechnic University—Pomona

California State University—Bakersfield

California State University—Channel Islands

California State University—Chico

California State University—East Bay

California State University—Fresno

California State University—Fullerton

California State University—Long Beach

California State University—Los Angeles

California State University—Monterey Bay

California State University—Northridge

California State University—Sacramento

California State University—San Bernardino

California State University—San Marcos

California State University—Stanislaus

Chaffey College

Citrus College

City College of San Francisco

Clovis Community College

College of San Mateo

College of the Canyons

College of the Desert

College of the Sequoias

Cosumnes River College

Crafton Hills College

Cuesta College

Cypress College

Diablo Valley College

East Los Angeles College

El Camino Community College District

Evergreen Valley College

Foothill College

Fresno City College

Fresno Pacific University

Fullerton College

Glendale Community College

Hartnell College

Imperial Valley College

Las Positas College

Long Beach City College

Los Angeles City College

Los Angeles Mission College

Los Angeles Pierce College

Los Angeles Southwest College

Merced College

MiraCosta College

Mission College

Modesto Junior College

Monterey Peninsula College

Moorpark College

Mt San Antonio College

Mt San Jacinto Community College District

Napa Valley College

Oxnard College

Palo Verde College

Palomar College

Pasadena City College

Porterville College

Reedley College

Rio Hondo College

Riverside City College

Sacramento City College

Saddleback College

Saint Mary's College of California

San Bernardino Valley College

San Diego City College

San Diego Mesa College

San Diego State University

San Francisco State University

San Jose State University

Santa Ana College

Santa Monica College

Santa Rosa Junior College

Solano Community College

Sonoma State University

Southwestern College

University of California—Irvine

University of California—Riverside

University of California—Santa Barbara

University of California—Santa Cruz

University of La Verne

University of Redlands

Ventura College

West Hills College—Coalinga

West Los Angeles College

Whittier College

Woodland Community College

Yuba College

Colorado (5)

Colorado State University Pueblo

Community College of Denver

Metropolitan State University of Denver

Regis University

Trinidad State College

Connecticut (1)

Gateway Community College

Florida (11)

Ana G. Mendez University

Broward College

Florida Atlantic University

Florida International University

Indian River State College

Miami Dade College

Nova Southeastern University

Palm Beach State College

Seminole State College of Florida

University of Central Florida

Valencia College

Georgia (2)

Dalton State College

Georgia Gwinnett College

Illinois (7)

City Colleges of Chicago—Richard J Daley College

College of Lake County

Dominican University

North Park University

Northeastern Illinois University

Roosevelt University

University of Illinois Chicago

Indiana (1)

Goshen College

Kansas (1)

Seward County Community College

Massachusetts (1)

Bunker Hill Community College

Nevada (1)

University of Nevada—Las Vegas

New Jersey (9)

Atlantic Cape Community College

Essex County College

Hudson County Community College

Kean University

Middlesex College

Montclair State University

Passaic County Community College

Rutgers University—Newark

William Paterson University of New Jersey

New Mexico (8)

Central New Mexico Community College

Eastern New Mexico University—Main Campus

Eastern New Mexico University—Roswell Campus

Northern New Mexico College

Santa Fe Community College

University of New Mexico—Los Alamos Campus

University of New Mexico—Main Campus

Western New Mexico University

New York (15)

CUNY Bronx Community College

CUNY City College

CUNY Hostos Community College

CUNY Hunter College

CUNY LaGuardia Community College

CUNY Lehman College

CUNY Queens College

CUNY Queensborough Community College

Farmingdale State College

Manhattan College

Manhattanville College

Mercy College

Nassau Community College

Suffolk County Community College

SUNY Westchester Community College

North Carolina (1)

Sampson Community College

Oregon (1)

Chemeketa Community College

Puerto Rico (16)

Instituto Tecnologico de Puerto Rico—Recinto de Manati

Inter American University of Puerto Rico—Aguadilla

Inter American University of Puerto Rico—Barranquitas

Inter American University of Puerto Rico—Bayamon

Inter American University of Puerto Rico—Guayama

Inter American University of Puerto Rico—Ponce

Inter American University of Puerto Rico—San German

Pontifical Catholic University of Puerto Rico—Ponce

Universidad Ana G. Mendez—Carolina Campus

Universidad Ana G. Mendez—Cupey Campus

Universidad Ana G. Mendez—Gurabo Campus

University of Puerto Rico—Arecibo

University of Puerto Rico—Humacao

University of Puerto Rico—Medical Sciences

University of Puerto Rico—Rio Piedras

University of Puerto Rico—Utuado

Texas (33)

Amarillo College

Angelo State University

Austin Community College District

Central Texas College

Dallas College

Frank Phillips College

Huston—Tillotson University

Lee College

Lone Star College System

Odessa College

Palo Alto College

Saint Edward's University

San Antonio College

Southwest Texas Junior College

Southwestern University

St. Mary's University

Sul Ross State University

Tarrant County College District

Texas A & M University—Corpus Christi

Texas A & M University—Kingsville

Texas State Technical College

Texas State University

Texas Woman's University

The University of Texas at Austin

The University of Texas at El Paso

The University of Texas at San Antonio

The University of Texas Rio Grande Valley

Tyler Junior College

University of Houston

University of Houston—Clear Lake

University of North Texas

University of the Incarnate Word

Wayland Baptist University

Washington (4)

Big Bend Community College

Heritage University

Wenatchee Valley College

Yakima Valley College

Done at Washington, DC, this day of October 10, 2023.
Drenda Williams,
Associate Director for Operations, National Institute of Food and Agriculture, U.S. Department of Agriculture.

[FR Doc. 2023-22718 Filed 10-13-23; 8:45 am]

BILLING CODE 3410-22-P